FEDERAL COMMUNICATIONS COMMISSION

47 CFR Part 73

[DA 03-3442]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective November 14, 2003.

FOR FURTHER INFORMATION CONTACT: Kathleen Scheuerle, Media Bureau, (202) 418-2180.

SUPPLEMENTARY INFORMATION: This is a summary of the Commission's Report and Order, adopted October 29, 2003, and released October 31, 2003. The full text of this Commission decision is available for inspection and copying during regular business hours at the FCC Reference Information Center, Portals II, 445 12th Street, SW., Room CY-A257, Washington, DC 20554. This document may also be purchased from the Commission's duplicating contractor, Qualex International, Portals II, 12th Street, SW, Room CY-B402, Washington, DC 20554.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Arizona, is amended by removing Channel 261C2 and adding Channel 261C1 at Flagstaff.

3. Section 73.202(b), the Table of FM Allotments under Illinois, is amended by removing Channel 268C1 and adding Channel 268B at Carbondale.

4. Section 73.202(b), the Table of FM Allotments under Kansas, is amended by removing Channel 268A and adding Channel 268C3 at Iola and by removing Channel 279C1 and adding Channel 279C0 at Wichita.

5. Section 73.202(b), the Table of FM Allotments under Michigan, is amended by removing Channel 254C2 and adding Channel 253C1 at Hancock.

6. Section 73.202(b), the Table of FM Allotments under Minnesota, is amended by removing Channel 241A and adding Channel 241C3 at Albert Lea.

7. Section 73.202(b), the Table of FM Allotments under Mississippi, is amended by removing Channel 292C3 and adding Channel 292C2 at Petal.

8. Section 73.202(b), the Table of FM Allotments under Missouri, is amended by removing Channel 256C and adding Channel 256C0 at Clayton and by removing Channel 255A and adding Channel 255C3 at Saint Robert.

9. Section 73.202(b), the Table of FM Allotments under Montana, is amended by removing Channel 278C1 and adding Channel 278C0 at Bozeman.

10. Section 73.202(b), the Table of FM Allotments under Tennessee, is amended by removing Channel 248A and adding Channel 248C3 at Lawrenceburg.

11. Section 73.202(b), the Table of FM Allotments under Texas, is amended by removing Channel 241C3 and adding Channel 242C1 at Dalhart, by removing Channel 300C2 and adding Channel 300C3 at Johnson City, and by removing Channel 298C and adding Channel 298C0 at San Antonio.

Federal Communications Commission.
John A. Karousos,
Assistant Chief, Audio Division, Media Bureau.

[FR Doc. 03-28465 Filed 11-13-03; 8:45 am]

BILLING CODE 6712-01-P